DEPARTMENT OF HEALTH AND HUMAN SERVICES

National Institutes of Health

Draft NTP Technical Reports on Cell Phone Radiofrequency Radiation; Availability of Documents; Request for Comments; Notice of Peer-Review Meeting

AGENCY: National Institutes of Health, HHS.

ACTION: Notice.

SUMMARY: The National Toxicology Program (NTP) announces a meeting to peer review two Draft NTP Technical Reports on Cell Phone Radiofrequency Radiation. These reports present the results of NTP studies conducted to evaluate the impact of cell phone radiofrequency radiation exposure in mice and rats. NTP studied two system modulations: Global System for Mobile Communications and Code Division Multiple Access. The peer-review meeting will be held at the National Institute of Environmental Health Sciences (NIEHS) in Research Triangle Park, NC and is open to the public. Registration is requested for attendance at the meeting either in-person or by webcast and to present oral comments. Information about the meeting and registration is available at https://ntp.niehs.nih.gov/go/36051.

DATES: Meeting: Tentatively scheduled for March 26, 2018, 8:30 a.m. to adjournment on March 28, 2018, at approximately 5:00 p.m. Eastern Daylight Time (EDT). The preliminary agenda of topics is available at https://ntp.niehs.nih.gov/go/36051 and will be updated one week before the meeting.

Document Availability: The two draft NTP technical reports should be available by February 2, 2018, at https://ntp.niehs.nih.gov/go/36051.

Written Public Comment Submissions: Deadline is March 12, 2018.

Registration for Oral Comments: Deadline is March 12, 2018.

Registration to Attend Meeting In-person or to View Webcast: Deadline is March 28, 2018.

ADDRESSES: Meeting Location: Rodbell Auditorium, Rall Building, NIEHS, 111 T.W. Alexander Drive, Research Triangle Park, NC 27709.

Meeting web page: The two draft NTP technical reports, preliminary agenda, registration, and other meeting materials will be available at https://ntp.niehs.nih.gov/go/36051.

Webcast: The URL for viewing the peer-review meeting webcast will be provided to registrants.

FOR FURTHER INFORMATION CONTACT: Canden Byrd, ICF, 2635 Meridian Parkway, Suite 200, Durham, NC, USA 27713. Phone: (919) 293-1660, Fax: (919) 293-1645, Email: NTP-Meetings@icf.com.

SUPPLEMENTARY INFORMATION: Background: Personal (cellular) telecommunications is a rapidly evolving technology that uses radiofrequency energy or radiation for mobile communication. According to a 2016 survey, 95 percent of American adults now use cell phones. Given such broad use, adverse health effects shown to be associated with cell phone use could be a widespread public health concern. The U.S. Food and Drug Administration (FDA) nominated cell phone radiofrequency radiation for NTP study because (a) widespread human exposure is possible, (b) current exposure guidelines are based largely on protection from acute injury due to thermal effects, (c) little is known about the potential health effects of long-term exposure to radiofrequency radiation, and (d) currently available human studies have found limited evidence of an increased risk of cancer from cell phone use.

NTP studied in rats and mice the effects of exposure to cell phone radiofrequency radiation from two system modulations: Global System for Mobile Communications and Code Division Multiple Access. NTP released the “Report of Partial Findings from the National Toxicology Program Carcinogenesis Studies of Cell Phone Radiofrequency Radiation in Hsd: Sprague Dawley SD Rats (Whole Body Exposure)” in May 2016 (https://doi.org/10.1101/055699). The partial findings will be included in the draft NTP technical report for rats. The two draft NTP technical reports present results for all NTP studies on rats and mice on the toxicity and carcinogenicity of cell phone-emitted radiofrequency radiation.

Meeting Attendance Registration: The meeting is open to the public with time set aside for oral public comment; in-person attendance at the NIEHS is limited by the space available (~100 attendees). Registratration for in-person attendance is on a first-come, first-served basis, and registrants will be assigned a number in their confirmation email. After the first 100 registrants, persons will be placed on a wait list and notified should an opening become available. Registration to attend the meeting in-person or view the webcast is by March 28, 2018, at https://ntp.niehs.nih.gov/go/36051. The URL for the webcast will be provided in the email confirming registration. Visitor and security information for those attending in person is available at https://www.niehs.nih.gov/about/visiting/index.cfm. Individuals with disabilities who need accommodation to view the webcast should contact Canden Byrd by phone: (919) 293-1660 or email: NTP-Meetings@icf.com. TTY users should contact the Federal TTY Relay Service at (800) 877-8339. Requests should be made at least five business days in advance of the event.

Public Comment Registration: NTP invites written and oral public comments on the draft NTP technical reports. Guidelines for public comments are available at https://ntp.niehs.nih.gov/ntp/about_ntp/guidelines_public_comments_508.pdf.

The deadline for submission of written comments is March 12, 2018. Written public comments should be submitted through the meeting website. Persons submitting written comments should include name, affiliation, mailing address, phone, email, and sponsoring organization (if any). Written comments received in response to this notice will be posted on the NTP website, and the submitter will be identified by name, affiliation, and sponsoring organization (if any). Comments that address scientific or technical issues will be forwarded to the peer-review panel and NTP staff prior to the meeting.

Registration to provide oral comments is on or before March 12, 2018, at https://ntp.niehs.nih.gov/go/36051. Registratration is on a first-come, first-served basis, and registrants will be assigned a number in their confirmation email. Oral comments may be presented in person at NIEHS or by teleconference line. The access number for the teleconference line will be provided to registrants by email prior to the meeting. Each organization is allowed one time slot per comment period. The agenda allows for two public comment periods: The first comment period on the exposure system (12 commenters, up to 5 minutes per speaker), and the second comment period on the NTP findings in rats and mice (24 commenters, up to 5 minutes per speaker). After the maximum number of speakers per comment period is exceeded, individuals registered to provide oral comment will be placed on a wait list and notified should an opening become available. Commenters will be notified after March 12, 2018, the deadline to register for oral public comments, about the actual time allotted per speaker.

If possible, oral public commenters should send a copy of their slides and/or statement or talking points to Canden Byrd by email: NTP-Meetings@icf.com by March 12, 2018.

Meeting Materials: The two draft NTP technical reports and preliminary agenda will be available on the NTP website at https://ntp.niehs.nih.gov/go/36051. The draft NTP technical reports should be available by February 2, 2018. Additional information will be posted when available or may be requested in hardcopy, contact Canden Byrd by phone: (919) 293-1660 or email: NTP-Meetings@icf.com. The preliminary meeting agenda is available on the meeting web page and will be updated one week before the meeting. Individuals are encouraged to access the meeting web page to stay abreast of the most current information regarding the meeting.

Following the meeting, a report of the peer review will be prepared and made available on the NTP website.

Background Information on NTP Peer-Review Panels: NTP panels are technical, scientific advisory bodies established on an “as needed” basis to provide independent scientific peer review and advise NTP on agents of public health concern, new/revised toxicological test methods, or other issues. These panels help ensure transparent, unbiased, and scientifically rigorous input to the program for its use in making credible decisions about human hazard, setting research and testing priorities, and providing information to regulatory agencies about alternative methods for toxicity screening. NTP welcomes nominations of scientific experts for upcoming panels. Scientists interested in serving on an NTP panel should provide their current curriculum vitae to Canden Byrd by email: NTP-Meetings@icf.com. The authority for NTP panels is provided by 42 U.S.C. 217a; section 222 of the Public Health Service Act, as amended. The panel is governed by the Federal Advisory Committee Act, as amended (5 U.S.C. Appendix 2), which sets forth standards for the formation and use of advisory committees.

Dated: January 16, 2018.
Brian R. Berridge,
Associate Director, National Toxicology Program.

[FR Doc. 2018-01523 Filed 1-26-18; 8:45 am]

BILLING CODE 4140-01-P